DEPARTMENT OF TRANSPORTATION

Federal Aviation Administration

Notice of Intent To Establish an Aircraft Repair and Maintenance Advisory Committee

AGENCY: Federal Aviation Administration (FAA) DOT.

ACTION: Notice.

SUMMARY: This notice announces the intent of the FAA to establish an Aircraft Repair and Maintenance Advisory Committee. This notice also announces the FAA's invitation to interested and qualified persons who wish to be appointed by the Administrator as a member of the committee to submit a letter of interest.

DATES: Requests for appointment as a member of the committee must be submitted on or before September 25, 2000.

FOR FURTHER INFORMATION CONTACT: Russell S. Unangst, Jr., Federal Aviation Administration (AFS-300), 800 Independence Avenue, SW, Washington, DC 20591; phone (202) 267-8844; fax (202) 267-5115; e-mail russell.unangst@faa.gov.

SUPPLEMENTARY INFORMATION:

Background

In accordance with the Wendell H. Ford Aviation Investment and Reform Act for the 21st Century, Public Law 106-81, section 734, the FAA is establishing an advisory committee to review issues related to the use and oversight of aircraft and aviation component repair and maintenance facilities located within, or outside of, the United States. This notice informs the public that the FAA will ask the proposed Aircraft Repair and Maintenance Advisory Committee to provide advice and recommendations to the Secretary of Transportation, through the FAA Administrator, on the following tasks:

(1) The amount and type of aircraft and aviation component repair work that is being performed by air carriers and aircraft repair facilities located within, and outside of, the United States

(2) The staffing needs of those facilities, and

(3) Any balance of trade or safety issues associated with that work.

The advisory committee will afford the FAA additional opportunities to obtain direct, firsthand information and insight from the represented interests meeting and exchanging ideas with respect to proposed rules and existing rules that should be revised or eliminated. The advisory committee will be making recommendations to increase safety through improved oversight of aircraft repair facilities. However, the activities of the committee will not circumvent the normal coordination process or the public rulemaking procedures.

The advisory committee may form working groups to accomplish its tasks. Working groups are expected to comply with the procedures adopted by the advisory committee. All working groups will be composed of individuals having experience in the assigned task.

The advisory committee will consist of at least twelve members, nine of whom shall be appointed by the Administrator as follows:

(a) Three representatives of labor organizations representing aviation mechanics;

(b) One representative of cargo air carriers;

(c) One representative of passenger air carriers;

(d) One representative of aircraft repair facilities;

(e) One representative of aircraft manufacturers;

(f) One representative of on-demand passenger air carriers and corporate aircraft operations; and

(g) One representative of regional passenger air carriers;

The remaining positions on the advisory committee shall consist of a representative from the Department of Commerce, designated by the Secretary of Commerce, a representative from the Department of State, designated by the Secretary of State, and one representative from the Federal Aviation Administration, designed by the Administrator.

Interested persons who wish to be appointed by the Administrator as a member of the Aircraft Repair and Maintenance Advisory Committee should submit a letter of interest to Mr. Russell S. Unangst, Jr. at the Federal Aviation Administration (AFS-310), 800 Independence Avenue, SW., Washington, DC 20591; phone (202) 267-8844; fax (202) 267-5115; e-mail russell.unangst@faa.gov. The letter should describe interests in the tasks and state the experience and qualification he or she would bring to the committee. Each person submitting a letter of interest will be advised whether or not his or her request can be accommodated. To the extent possible, the composition of the advisory committee and working groups will be balanced among the aviation interests selected to participate.

Requests for appointment as a member of the advisory committee should be submitted on or before September 25, 2000.

The Secretary of Transportation has determined that the formation and use of advisory committees are necessary and in the public interest in connection with the performance of duties imposed on the FAA by law. Meetings of the Aircraft Repair and Maintenance Advisory Committee will be open to the public. Meetings of the working groups will not be open to the public, except to the extent that individuals or organizations with an interest and expertise are selected to participate. No public announcement of working group meetings will be made.

Issued in Washington, DC, on July 24, 2000.
Angela B. Elgee,
Manager, Continuous Airworthiness Maintenance Division.

[FR Doc. 00-18993 Filed 7-26-00; 8:45 am]

BILLING CODE 4910-13-M